DEPARTMENT OF HEALTH AND HUMAN SERVICES

National Institutes of Health

National Cancer Institute; Notice of Meeting

Pursuant to section 10(d) of the Federal Advisory Committee Act, as amended, notice is hereby given of the joint meeting of the NCI Board of Scientific Advisors (BSA) and National Cancer Advisory Board (NCAB).

The meeting will be open to the public as indicated below, with attendance limited to space available. Individuals who plan to attend and need special assistance, such as sign language interpretation or other reasonable accommodations, should notify the Contact Person listed below in advance of the meeting. The open session will be videocast and can be accessed from the NIH Videocasting and Podcasting Web site (http://videocast.nih.gov).

A portion of the National Cancer Advisory Board meeting will be closed to the public in accordance with the provisions set forth in section 552b(c)(6), Title 5 U.S.C., as amended, for the review, discussion, and evaluation of individual intramural programs and projects conducted by the National Cancer Institute, including consideration of personnel qualifications and performance, and the competence of individual investigators, the disclosure of which would constitute a clearly unwarranted invasion of personal privacy.

Name of Committee: National Cancer Advisory Board, Ad Hoc Subcommittee on Global Cancer Research.

Open: November 28, 2017, 5:30 p.m. to 7:00 p.m.

Agenda: Discussion on Global Cancer Research.

Place: Gaithersburg Marriott Washingtonian Center, Lakeside Conference Room 1 and 2, 9751 Washington Boulevard, Gaithersburg, MD 20878.

Contact Person: Dr. Edward Trimble, Executive Secretary, NCAB Ad Hoc Subcommittee on Global Cancer Research, National Cancer Institute—Shady Grove, National Institutes of Health, 9609 Medical Center Drive, Room 3W562, Bethesda, MD 20892, (240) 276-5796, trimblet@mail.nih.gov.

Name of Committee: National Cancer Advisory Board, Ad Hoc Subcommittee on Population Science, Epidemiology and Disparities.

Open: November 28, 2017, 7:30 p.m. to 9:00 p.m.

Agenda: Discussion on Population Science, Epidemiology and Disparities.

Place: Gaithersburg Marriott Washingtonian Center, Lakeside Conference Room 1 and 2, 9751 Washington Boulevard, Gaithersburg, MD 20878.

Contact Person: Dr. Deborah Winn, Executive Secretary, NCAB Ad Hoc Subcommittee on Population Science, Epidemiology and Disparities, National Cancer Institute—Shady Grove, National Institutes of Health, 9609 Medical Center Drive, Room 4E344, Bethesda, MD 20892, (240) 276-6755, winnde@mail.nih.gov.

Name of Committee: NCI Board of Scientific Advisors and National Cancer Advisory Board.

Open: November 29, 2017, 8:30 a.m. to 4:00 p.m.

Agenda: Joint meeting of the NCI Board of Scientific Advisors and National Cancer Advisory Board; NCI Director's report and presentations, NCI Board of Scientific Advisors Concepts Review.

Closed: November 29, 2017, 4:30 p.m. to 5:30 p.m.

Agenda: Review of intramural program site visit outcomes and the discussion of confidential personnel issues.

Place: National Cancer Institute—Shady Grove, 9609 Medical Center Drive, Room TE406 & 408, Rockville, MD 20850.

Contact Person: Paulette S. Gray, Ph.D., Director, Division of Extramural Activities, National Cancer Institute—Shady Grove, National Institutes of Health, 9609 Medical Center Drive, Room 7W444, Bethesda, MD 20892, 240-276-6340, grayp@mail.nih.gov.

Any interested person may file written comments with the committee by forwarding the statement to the Contact Person listed on this notice. The statement should include the name, address, telephone number and when applicable, the business or professional affiliation of the interested person.

In the interest of security, NIH has instituted stringent procedures for entrance onto the NCI-Shady Grove campus. All visitors will be asked to show one form of identification (for example, a government-issued photo ID, driver's license, or passport) and to state the purpose of their visit.

Information is also available on the Institute's/Center's home page: NCAB: http://deainfo.nci.nih.gov/advisory/ncab/ncab.htm, BSA: http://deainfo.nci.nih.gov/advisory/bsa/bsa.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: November 6, 2017.
Melanie J. Pantoja,
Program Analyst, Office of Federal Advisory Committee Policy.

[FR Doc. 2017-24402 Filed 11-8-17; 8:45 am]

BILLING CODE 4140-01-P